FEDERAL MARITIME COMMISSION

Ocean Transportation Intermediary License; Applicants

Notice is hereby given that the following applicants have filed with the Federal Maritime Commission an application for licenses as Non-Vessel Operating Common Carrier and Ocean Freight Forwarder—Ocean Transportation Intermediary pursuant to section 19 of the Shipping Act of 1984 as amended (46 U.S.C. app. 1718 and 46 CFR part 515).

Persons knowing of any reason why the following applicants should not receive a license are requested to contact the Office of Transportation Intermediaries, Federal Maritime Commission, Washington, DC 20573.

Non-Vessel-Operating Common Carrier Ocean Transportation Intermediary Applicants

CTM International, Inc., 145-43 226th Street, Springfield Gardens, NY 11413. Officers: Teresa Serkes, President (Qualifying Individual)

Yicheng Jet-Sea Logistics Inc., 1641 W. Main Street, Suite 420, Alhambra, CA 91801. Officers: Julie Ho, Vice President (Qualifying Individual), Zhou Ya Qing, President

Atlantic Cargo Line dba A.C.L., 10101 SW 8th Terrace, Miami, FL 33174. Officer: Eduardo Prado, President (Qualifying Individual)

Sino-America Express, Inc., 13523 Tobinn Manor Drive (P.O. BOX 1495), Cypress, TX 77429. Officers: Chen Ling, Vice President (Qualifying Individual), Hao Hui Hu, Director/President

E-Trans Logistic Services, Inc., 11222 S. La Cienega Blvd., Suite 268, Inglewood, CA 90304. Officers: Wei Po Wang, President/CEO (Qualifying Individual), Tai Hung Yang, Vice President

Universal Shipping, Inc., 675 Brea Canyon Road, Suite 12A, Walnut, CA 91789. Officers: Karim Suleiman, Chairman/CFO (Qualifying Individual), Sherley Eddy Hans, President

Alpa International Group, Inc., 11701 NW, 102nd Road, Suite 9, Medley, FL 33178. Officers: Reinaldo Rodriguez, Director (Qualifying Individual), Patricia Craig, President

Non-Vessel Operating Common Carrier and Ocean Freight Forwarder Transportation Intermediary Applicants

Monetti Distributors, Inc., 6806 N.W. 84th Avenue, Miami, FL 33126. Officer: Francesco Monetti, President (Qualifying Individual)

Quantum Logistics, Inc., 14509 E. 33rd Place Suite H, Aurora, CO 80011. Officers: Peter J. Michalczyk, Import Manager (Qualifying Individual), Chris Munson, CAO

Impex of Doral Logistics, Inc., 7275 N.W. 87th Avenue, Miami, FL 33166. Officers: Carmen Kattan, Secretary (Qualifying Individual), Joseph M. Simko, President

Ocean Freight Forwarder—Ocean Transportation Intermediary Applicants

Trans Global Logistics, Inc., 100 Eagle Ridge Road, Midland City, AL 36350. Officers: Jeffrey F. Coleman, President (Qualifying Individual), William L. Brakefield, Director

A.L.S. Cargo Inc. dba Above & Beyond Cargo, 136 W. 73rd Street, Suite 3, New York, NY 10023. Officer: Elvis Soler, President (Qualifying Individual)

Dated: August 24, 2001.
Bryant L. VanBrakle,
Secretary.

[FR Doc. 01-21866 Filed 8-29-01; 8:45 am]

BILLING CODE 6730-01-P